NUCLEAR REGULATORY COMMISSION

[IA-02-031]

In the Matter of John Todd Bilinsky; Order Prohibiting Involvement in NRC-Licensed Activities

I

John Todd Bilinsky was employed as a technician by NTH Consultants, Ltd. (Licensee) of Farmington Hills and Grand Rapids, Michigan. NTH Consultants, Ltd., holds License No. 21-14894-01 issued by the Nuclear Regulatory Commission (NRC or Commission) pursuant to 10 CFR part 30 on June 17, 1996. The license authorizes the use of Cesium-137 and Americium-241 sealed sources in Troxler moisture/density gauges in accordance with the conditions specified therein.

II

On November 2, 2001, NTH Consultants Ltd., reported to the NRC that a Troxler moisture/density gauge containing NRC-licensed material had been stolen and subsequently recovered. The NRC Office of Investigations (OI) conducted an investigation into the reported theft of Troxler Model 3411B moisture/density gauge (Serial No. 16990) containing NRC-licensed material in two sealed sources (8 mCi of Cesium-137, Serial No. 50-6374, and 40 mCi of Americium-241, Serial No. 47-12413). The Office of Investigations issued Report No. 3-2001-053 on July 26, 2002. Information developed during that investigation indicated that John Todd Bilinsky was previously employed by NTH Consultants, Ltd., at its facility in Grand Rapids, Michigan, and Mr. Bilinsky was authorized to use Troxler moisture/density gauges. On September 14, 2001, an employee of the Licensee learned that Mr. Bilinsky was soliciting outside work from customers of NTH Consultants, Ltd. As a result of the solicitations, Mr. Bilinsky's employment was suspended by the Licensee on September 21, 2001, and his employment was terminated on September 24, 2001.

During October 2001, licensee personnel conducted a property inventory and could not account for Troxler Model 3411B moisture/density gauge (Serial No. 16990). The Licensee determined that the gauge was returned to its storage area on August 31, 2001. At that time, the gauge utilization log had been updated to reflect that this specific moisture-density gauge was broken and should be transferred from the Grand Rapids, Michigan, office to the Farmington Hills, Michigan, corporate office for repairs. When Mr. Bilinsky was terminated on September 24, 2001, the Licensee was not aware that Mr. Bilinsky had the gauge in his possession. The Licensee did not learn that the gauge was in the possession of Mr. Bilinsky until November 2, 2001, when another employee of NTH Consultants retrieved the gauge from Mr. Bilinsky.

III

Based on the above, it appears that John Todd Bilinsky, a former employee of the Licensee, acquired and possessed, without authorization, a Troxler Model 3441B moisture-density gauge (Serial No. 16990) containing NRC-licensed material, that was owned by NTH Consultants, Ltd. Mr. Bilinsky's possession of a Troxler Model 3411B moisture-density gauge containing byproduct material (nominally 8 millicuries of cesium-137 and 40 millicuries of americium-241:Be) without authorization of an NRC licensee or without a specific or general license issued by the NRC or an Agreement State, is an apparent deliberate violation of 10 CFR 30.3, “Activities Requiring License.”

Further, Mr. Bilinsky's conduct has raised serious doubt as to whether he can be relied upon to comply with NRC requirements in the future.

Consequently, I lack the requisite reasonable assurance that licensed activities can be conducted in compliance with the Commission's requirements and that the health and safety of the public will be protected if Mr. Bilinsky were permitted at this time to be involved in NRC-licensed activities. Therefore, the public health, safety and interest require that Mr. Bilinsky be prohibited from any involvement in NRC-licensed activities for a period of five years from the date of this Order.

IV

Accordingly, pursuant to sections 81, 161b, 161i, 182 and 186 of the Atomic Energy Act of 1954, as amended, and the Commission's regulations in 10 CFR 2.202, 10 CFR 30.10, and 10 CFR 150.20, it is hereby ordered that:

1. John Todd Bilinsky is prohibited for five years from the date of this Order from engaging in NRC-licensed activities. NRC-licensed activities are those activities that are conducted pursuant to a specific or general license issued by the NRC, including, but not limited to, those activities of Agreement State licensees conducted pursuant to the authority granted by 10 CFR 150.20.

2. If Mr. Bilinsky is currently involved with another licensee in NRC-licensed activities, he must immediately cease those activities, and inform the NRC of the name, address and telephone number of the employer, and provide a copy of this Order to the employer. The Director, OE, may, by letter, relax or rescind any of the above conditions upon demonstration by Mr. Bilinsky of good cause.

V

In accordance with 10 CFR 2.202, John Todd Bilinsky must, and any other person adversely affected by this Order may, submit an answer to this Order, and may request a hearing on this Order, within 20 days of the date of this Order. Where good cause is shown, consideration will be given to extending the time to request a hearing. A request for extension of time must be made in writing to the Director, Office of Enforcement, U.S. Nuclear Regulatory Commission, Washington, DC 20555, and include a statement of good cause for the extension. The answer may consent to this Order. Unless the answer consents to this Order, the answer shall, in writing and under oath or affirmation, specifically admit or deny each allegation or charge made in this Order and shall set forth the matters of fact and law on which Mr. Bilinsky or other person adversely affected relies and the reasons as to why the Order should not have been issued. Any answer or request for a hearing shall be submitted to the Secretary, U.S. Nuclear Regulatory Commission, Attn: Rulemakings and Adjudications Staff, Washington, DC 20555. Copies also shall be sent to the Director, Office of Enforcement, U.S. Nuclear Regulatory Commission, Washington, DC 20555, to the Assistant General Counsel for Materials Litigation and Enforcement at the same address, to the Regional Administrator, NRC Region III, 801 Warrenville Road, Lisle, Illinois 60532-4351, and to Mr. Bilinsky if the answer or hearing request is by a person other than Mr. Bilinsky. Because of continuing disruptions in delivery of mail to United States Government offices, it is requested that answers and requests for hearing be transmitted to the Secretary of the Commission either by means of facsimile transmission to 301-415-1101 or by e-mail to hearingdocket@nrc.gov and also to the Office of the General Counsel either by means of facsimile transmission to 301-415-3725 or by e-mail to OGCMailCenter@nrc.gov. If a person other than Mr. Bilinsky requests a hearing, that person shall set forth with particularity the manner in which his interest is adversely affected by this Order and shall address the criteria set forth in 10 CFR 2.714(d).¹

¹ The most recent version of title 10 of the Code of Federal Regulations published January 1, 2002, inadvertently omitted the last sentence of 10 CFR 2.714 (d) and paragraphs (d)(1) and (d)(2) regarding petitions to intervene and contentions. For the complete, corrected text of 10 CFR 2.714 (d), please see 67 FR 20884; April 29, 2002.

If a hearing is requested by Mr. Bilinsky or a person whose interest is adversely affected, the Commission will issue an Order designating the time and place of any hearing. If a hearing is held, the issue to be considered at such hearing shall be whether this Order should be sustained.

In the absence of any request for hearing, or written approval of an extension of time in which to request a hearing, the provisions specified in section IV above shall be effective and final 20 days from the date of this Order without further order or proceedings. If an extension of time for requesting a hearing has been approved, the provisions specified in section IV shall be final when the extension expires if a hearing request has not been received.

Dated this 12th day of December, 2002.
For the Nuclear Regulatory Commission.
Carl J. Paperiello,
Deputy Executive Director for Materials, Research and State Programs.

[FR Doc. 02-32244 Filed 12-20-02; 8:45 am]

BILLING CODE 7590-01-P